DEPARTMENT OF TRANSPORTATION

Federal Aviation Administration

14 CFR Part 39

[Docket No. FAA-2014-0227; Directorate Identifier 2013-NM-211-AD; Amendment 39-18165; AD 2015-11-02]

RIN 2120-AA64

Airworthiness Directives; Lockheed Martin Corporation/Lockheed Martin Aeronautics Company Airplanes

AGENCY: Federal Aviation Administration (FAA), DOT.

ACTION: Final rule.

SUMMARY: We are superseding Airworthiness Directive (AD) 95-26-11 for all Lockheed Martin Corporation/Lockheed Martin Aeronautics Company Model L-1011 series airplanes. AD 95-26-11 required repetitive inspections to detect cracking of the fittings that attach the aft pressure bulkhead to the fuselage stringers, repetitive inspections to detect cracking of the fittings and of the splice tab of the aft pressure bulkhead, and corrective actions if necessary. This new AD requires repetitive inspections to detect cracking of the fittings that attach the aft pressure bulkhead to the fuselage stringers, repetitive inspections to detect cracking of the fittings and of the splice tab of the aft pressure bulkhead, repetitive inspections for cracking of certain aft fuselage skin panels, a structural modification, a post-modification inspection program, and corrective actions if necessary. This AD was prompted by a determination that the fittings at stringer attachments to the upper region of the aft pressure bulkhead are subject to widespread fatigue damage (WFD). We are issuing this AD to prevent simultaneous failure of multiple stringer end fittings through fatigue cracking at the aft pressure bulkhead, which could lead to rapid decompression of the airplane.

DATES: This AD is effective July 14, 2015.

The Director of the Federal Register approved the incorporation by reference of a certain publication listed in this AD as of July 14, 2015.

The Director of the Federal Register approved the incorporation by reference of a certain other publication listed in this AD as of January 11, 1996 (60 FR 668702, December 27, 1995).

ADDRESSES: For service information identified in this AD, contact Lockheed Martin Corporation/Lockheed Martin Aeronautics Company, L1011 Technical Support Center, Dept. 6A4M, Zone 0579, 86 South Cobb Drive, Marietta, GA 30063-0579; telephone 770-494-5444; fax 770-494-5445; email L1011.support@lmco.com; Internet http://www.lockheedmartin.com/ams/tools/TechPubs.html. You may view this referenced service information at the FAA, Transport Airplane Directorate, 1601 Lind Avenue SW., Renton, WA. For information on the availability of this material at the FAA, call 425-227-1221. It is also available on the Internet at http://www.regulations.gov by searching for and locating Docket No. FAA-2014-0227.

Examining the AD Docket

You may examine the AD docket on the Internet at http://www.regulations.gov by searching for and locating Docket No. FAA-2014-0227; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Carl Gray, Aerospace Engineer, Airframe Branch, ACE-117A, FAA, Atlanta Aircraft Certification Office (ACO), 1701 Columbia Avenue, College Park, GA 30337; phone: 404-474-5554; fax: 404-474-5605; email: carl.w.gray@faa.gov.

SUPPLEMENTARY INFORMATION:

Discussion

We issued a supplemental notice of proposed rulemaking (SNPRM) to amend 14 CFR part 39 to supersede AD 95-26-11, Amendment 39-9469 (60 FR 66870, December 27, 1995). AD 95-26-11 applied to all Lockheed Martin Corporation/Lockheed Martin Aeronautics Company Model L-1011 series airplanes. The SNPRM published in the Federal Register on November 17, 2014 (79 FR 68377). We preceded the SNPRM with a notice of proposed rulemaking (NPRM) that published in the Federal Register on April 14, 2014 (79 FR 20819). The NPRM proposed to require repetitive inspections to detect cracking of the fittings that attach the aft pressure bulkhead to the fuselage stringers, repetitive inspections to detect cracking of the fittings and of the splice tab of the aft pressure bulkhead, repetitive inspections for cracking of certain aft fuselage skin panels, a structural modification, a post-modification inspection program, and corrective actions if necessary. The NPRM was prompted by a determination that the fittings at stringer attachments to the upper region of the aft pressure bulkhead are subject to WFD. The SNPRM proposed to reduce the post-structural modification repetitive inspection interval. We are issuing this AD to prevent simultaneous failure of multiple stringer end fittings through fatigue cracking at the aft pressure bulkhead, which could lead to rapid decompression of the airplane.

Comments

We gave the public the opportunity to participate in developing this AD. We received no comments on the SNPRM (79 FR 68377, November 17, 2014) or on the determination of the cost to the public.

Conclusion

We reviewed the relevant data and determined that air safety and the public interest require adopting this AD as proposed except for minor editorial changes. We have determined that these minor changes:

• Are consistent with the intent that was proposed in the SNPRM (79 FR 68377, November 17, 2014) for correcting the unsafe condition; and

• Do not add any additional burden upon the public than was already proposed in the SNPRM (79 FR 68377, November 17, 2014).

We also determined that these changes will not increase the economic burden on any operator or increase the scope of this AD.

Related Service Information Under 1 CFR Part 51

We reviewed Lockheed Service Bulletin 093-53-105, Revision 3, dated May 31, 2013. The service information describes procedures for inspections for cracking of the stringer end fittings at the aft pressure bulkhead, corrective actions, and a modification that includes replacement of the stringer end fittings of certain stringers with new fittings. This service information is reasonably available because the interested parties have access to it through their normal course of business or by the means identified in the ADDRESSES section of this AD.

Costs of Compliance

We estimate that this AD affects 26 airplanes of U.S. registry.

We estimate the following costs to comply with this AD:

Estimated Costs
Action | Labor cost | Parts cost | Cost per product | Cost on U.S. operators
Inspections [actions retained from AD 95-26-11, Amendment 39-9469 (60 FR 66870, December 27, 1995)] | 23 work-hours × $85 per hour = $1,955 per inspection cycle | $0 | $1,955 per inspection cycle | $50,830 per inspection cycle.
Inspections and modification [new action] | 185 work-hours × $85 per hour = $15,725 | 6,750 | $22,475 | $584,350.

We estimate the following costs to do any necessary replacements that would be required based on the results of the inspections. We have no way of determining the number of aircraft that might need these replacements:

On-Condition Costs
Action | Labor cost | Parts cost | Cost per product
Replacement of one fitting | 16 work-hour × $85 per hour = $1,360 | $250 | $1,610

We have received no definitive data that would enable us to provide cost estimates for the other on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 95-26-11, Amendment 39-9469 (60 FR 66870, December 27, 1995), and adding the following new AD:

2015-11-02 Lockheed Martin Corporation/Lockheed Martin Aeronautics Company: Amendment 39-18165 ; Docket No. FAA-2014-0227; Directorate Identifier 2013-NM-211-AD.

(a) Effective Date

This AD is effective July 14, 2015.

(b) Affected ADs

This AD replaces AD 95-26-11, Amendment 39-9469 (60 FR 66870, December 27, 1995).

(c) Applicability

This AD applies to all Lockheed Martin Corporation/Lockheed Martin Aeronautics Company Model L-1011-385-1, L-1011-385-1-14, L-1011-385-1-15, and L-1011-385-3 airplanes, certificated in any category.

(d) Subject

Air Transport Association (ATA) of America Code 53, Fuselage.

(e) Unsafe Condition

This AD was prompted by a determination that the fittings at stringer attachments to the upper region of the aft pressure bulkhead are subject to widespread fatigue damage (WFD). We are issuing this AD to prevent simultaneous failure of multiple stringer end fittings through fatigue cracking at the aft pressure bulkhead, which could lead to rapid decompression of the airplane.

(f) Compliance

Comply with this AD within the compliance times specified, unless already done.

(g) Retained Detailed Visual Inspection

This paragraph restates the requirements of paragraph (a) of AD 95-26-11, Amendment 39-9469 (60 FR 66870, December 27, 1995), with no changes. Perform a detailed visual inspection to detect cracking of the fittings that attach the aft pressure bulkhead to the fuselage stringers (hereinafter referred to as “fittings”) at stringers 1 through 10 (right side) and at stringers 56 through 64 (left side), at the later of the times specified in either paragraph (g)(1) or (g)(2) of this AD.

(1) Prior to the accumulation of 20,000 total flight cycles; or

(2) Within the next 25 flight cycles or 10 days after September 28, 1995 (the effective date of AD 95-18-52, Amendment 39-9366 (60 FR 47465, September 13, 1995)), whichever occurs earlier.

(h) Retained Corrective Action for Cracked Fitting

This paragraph restates the requirements of paragraph (c) of AD 95-26-11, Amendment 39-9469 (60 FR 66870, December 27, 1995), with no changes. If any cracked fitting is detected during the inspection required by paragraph (g) of this AD: Before further flight, accomplish the requirements of paragraphs (h)(1) and (h)(2) of this AD.

(1) Replace the cracked fitting with a new fitting, or with a serviceable fitting on which a detailed visual inspection has been performed previously to detect cracking and that has been found to be free of cracks.

(2) Perform a detailed visual inspection to detect cracking in the radius at the lower end of the vertical leg of the bulkhead T-shaped frame between the stringer locations on either side of the stringer having the cracked fitting. If any cracked T-shaped frame is detected: Before further flight, repair in accordance with a method approved by the Manager, Atlanta Aircraft Certification Office (ACO), FAA.

(i) Retained Repetitive Fitting Inspections

This paragraph restates the requirements of paragraph (d) of AD 95-26-11, Amendment 39-9469 (60 FR 66870, December 27, 1995), with no changes. Repeat the inspections and other necessary actions required by paragraphs (g) and (h) of this AD at intervals not to exceed 1,800 flight cycles or 3,000 flight hours, whichever occurs earlier, until paragraph (j) of this AD is accomplished.

(j) Retained Eddy Current Surface Scan (ECSS) Inspections, and Related Investigative and Corrective Actions

This paragraph restates the requirements of paragraph (e) of AD 95-26-11, Amendment 39-9469 (60 FR 66870, December 27, 1995), with revised compliance times specified in paragraph (k) of this AD, exclusion of an ECSS inspection for certain airplanes, and new service information. Except as provided by paragraph (l) of this AD: At the applicable time specified in paragraph (k)(1) of this AD, accomplish the requirements of paragraphs (j)(1) and (j)(2) of this AD. Repeat the ECSS inspections thereafter at the compliance time specified in paragraph (k)(2) of this AD. Accomplishment of the ECSS inspection constitutes terminating action for the repetitive inspection requirements of paragraph (i) of this AD.

(1) Perform an ECSS inspection to detect cracking of the fittings at stringers 1 through 14 (right side) and at stringers 52 through 64 (left side), in accordance with the Accomplishment Instructions of Lockheed L-1011 Service Bulletin 093-53-105, Revision 1, dated November 17, 1995; or Lockheed Service Bulletin 093-53-105, Revision 3, dated May 31, 2013; except for airplanes with a large (47-inch-wide) aft passenger door, an ECSS inspection of stringers 12, 13, 53, and 54 is not required by this paragraph. Except as provided by paragraph (m) of this AD, if any cracking is detected, prior to further flight, replace the fitting with a new fitting without pilot holes, rework the fitting, and perform various follow-on actions (i.e., bolt hole eddy current (BHEC), ECSS, and borescope inspections; and repair) of the inner and outer tee caps, in accordance with the Accomplishment Instructions of Lockheed L-1011 Service Bulletin 093-53-105, Revision 1, dated November 17, 1995; or Lockheed Service Bulletin 093-53-105, Revision 3, dated May 31, 2013, except as required by paragraph (p) of this AD. As of the effective date of this AD, use only Lockheed Service Bulletin 093-53-105, Revision 3, dated May 31, 2013, for accomplishing the actions required by this paragraph.

(2) Perform an ECSS inspection to detect cracking of the lower (or inner) surface of the upper bonded splice tab of the bulkhead assembly at stringers 1 through 14 (right side) and at stringers 52 through 64 (left side), in accordance with the Accomplishment Instructions of Lockheed L-1011 Service Bulletin 093-53-105, Revision 1, dated November 17, 1995; or Lockheed Service Bulletin 093-53-105, Revision 3, dated May 31, 2013. As of the effective date of this AD, use only Lockheed Service Bulletin 093-53-105, Revision 3, dated May 31, 2013, for accomplishing the actions required by this paragraph.

(i) Except as provided by paragraph (m) of this AD, if any cracking is detected at the upper bonded splice tab, repair in accordance with a method approved by the Manager, Atlanta ACO, FAA.

(ii) Except as provided by paragraph (m) of this AD, if any cracking is detected at a fastener, prior to further flight, perform a BHEC inspection to detect cracking of the forward flange of the inner tee cap, in accordance with the Accomplishment Instructions of Lockheed L-1011 Service Bulletin 093-53-105, Revision 1, dated November 17, 1995; or Lockheed Service Bulletin 093-53-105, Revision 3, dated May 31, 2013. If any cracking is detected, prior to further flight, repair in accordance with the Accomplishment Instructions of Lockheed L-1011 Service Bulletin 093-53-105, Revision 1, dated November 17, 1995; or Lockheed Service Bulletin 093-53-105, Revision 3, dated May 31, 2013, except as required by paragraph (p) of this AD. As of the effective date of this AD, use only Lockheed Service Bulletin 093-53-105, Revision 3, dated May 31, 2013, for accomplishing the actions required by this paragraph.

(k) New Revised Compliance Times for Paragraph (j) of This AD

(1) Do the initial inspections required by paragraph (j) of this AD at the earlier of the times specified in paragraphs (k)(1)(i) and (k)(1)(ii) of this AD.

(i) Prior to the accumulation of 20,000 total flight cycles, or within 30 days after January 11, 1996 (the effective date of date of AD 95-26-11, Amendment 39-9469 (60 FR 66870, December 27, 1995)), whichever occurs later.

(ii) At the later of the times specified in paragraphs (k)(1)(ii)(A) and (k)(1)(ii)(B) of this AD.

(A) Before the accumulation of 13,875 total flight cycles.

(B) Within 365 days or 1,000 flight cycles after the effective date of this AD, whichever occurs first.

(2) Repeat the inspections specified in paragraph (j) of this AD within 2,500 flight cycles after accomplishing the most recent inspection required by paragraph (j) of this AD, and repeat the inspection thereafter at intervals not to exceed 1,750 flight cycles.

(l) Retained Inspection Deferral for Paragraph (j) of This AD

This paragraph restates the requirements of paragraph (f) of AD 95-26-11, Amendment 39-9469 (60 FR 66870, December 27, 1995). Accomplishment of the initial ECSS inspections required by paragraph (j) of this AD may be deferred to a date within 120 days after January 11, 1996 (the effective date of date of AD 95-26-11), provided that, in the interim, a visual inspection as specified in paragraph (g) of this AD is accomplished within 30 days after January 11, 1996 (the effective date of date of AD 95-26-11), and repeated thereafter at intervals not to exceed 50 flight cycles. Once the ECSS inspections begin, the visual inspections may be terminated.

(m) Retained Inspection Deferral With Revised Compliance Time and New Deferral

This paragraph restates the requirements of paragraph (g) of AD 95-26-11, Amendment 39-9469 (60 FR 66870, December 27, 1995), with a revised compliance time, service information, and a new deferred action. As of the effective date of this AD, the deferral specified in paragraphs (m)(1) and (m)(2) of this AD cannot be done. If cracking was found before the effective date of this AD, the deferral specified in paragraphs (m)(1) and (m)(2) of this AD may be done. (1) If two or more adjacent fittings on both sides of the cracked fittings or bonded splice tabs/fasteners are determined to be free of cracks by the ECSS inspection required by paragraphs (j)(1) and (j)(2) of this AD, repeat the ECSS inspection of the adjacent fittings thereafter at intervals not to exceed 600 flight cycles until the cracked fittings or splice tabs/fasteners are replaced or repaired, in accordance with the Accomplishment Instructions of Lockheed L-1011 Service Bulletin 093-53-105, Revision 1, dated November 17, 1995; or Lockheed Service Bulletin 093-53-105, Revision 3, dated May 31, 2013. At the applicable time specified in paragraphs (m)(1)(i) and (m)(1)(ii) of this AD: Replace the cracked fitting and/or splice tab/fasteners, in accordance with the Accomplishment Instructions of LockheedL-1011 Service Bulletin 093-53-105, Revision 1, dated November 17, 1995; or Lockheed Service Bulletin 093-53-105, Revision 3, dated May 31, 2013. As of the effective date of this AD, use only Lockheed Service Bulletin 093-53-105, Revision 3, dated May 31, 2013, for accomplishing the actions required by this paragraph.

(i) For any crack found before the effective date of this AD: Within 2,500 flight cycles after finding the crack.

(ii) For any crack found on or after the effective date of this AD: Before further flight after finding the crack.

(2) If two or more adjacent fittings on both sides of the cracked fittings or bonded splice tabs/fasteners are determined to be free of cracks by the ECSS inspection required by paragraphs (j)(1) and (j)(2) of this AD, the follow-on inspection (i.e., BHEC, ECSS, and borescope inspections) of the inner and outer tee caps required by paragraph (j)(1) of this AD may also be deferred until the cracked fittings are replaced as required by paragraph (m)(1) of this AD, but no later than before the accumulation of 20,800 total flight cycles.

(n) New Repetitive Borescope Inspections of Certain End Fittings and Corrective Actions

For airplanes with a large (47-inch-wide) aft passenger door: At the later of the times specified in paragraphs (n)(1) and (n)(2) of this AD, do a borescope inspection for cracking of the stringer end fittings at stringer locations 12, 13, 53, and 54; and do all applicable related investigative and corrective actions; in accordance with the Accomplishment Instructions of Lockheed Service Bulletin 093-53-105, Revision 3, dated May 31, 2013, except as specified in paragraph (p) of this AD. Do all applicable related investigative and corrective actions before further flight. Repeat the inspection of the stringer end fittings thereafter at intervals not to exceed 1,750 flight cycles until the actions required by paragraph (q) of this AD have been done.

(1) Before the accumulation of 13,875 total flight cycles.

(2) Within 365 days or 1,000 flight cycles after the effective date of this AD, whichever occurs earlier.

(o) New Repetitive Borescope Inspections of Fuselage Skin Panels

For airplanes with a large (47-inch-wide) aft passenger door: At the later of the times specified in paragraphs (o)(1) and (o)(2) of this AD, do an ECSS inspection for cracking of the left and right aft fuselage skin panels; and do all applicable related investigative and corrective actions; in accordance with the Accomplishment Instructions of Lockheed Service Bulletin 093-53-105, Revision 3, dated May 31, 2013, except as specified in paragraph (p) of this AD. Do all applicable related investigative and corrective actions before further flight. Repeat the inspection of the aft fuselage skin panels thereafter at intervals not to exceed 1,750 flight cycles until the modification required by paragraph (q) of this AD is done.

(1) Before the accumulation of 13,875 total flight cycles.

(2) Within 365 days or 1,000 flight cycles after the effective date of this AD, whichever occurs first.

(p) New Service Information Exception

If any cracking is found during any inspection required by this AD, and Lockheed Service Bulletin 093-53-105, Revision 3, dated May 31, 2013, specifies contacting Lockheed for appropriate action: Before further flight, repair the cracking in accordance with a method approved by the Manager, Atlanta ACO, FAA. As of the effective date of this AD, for a repair method to be approved by the Manager, Atlanta ACO, as required by this paragraph, the Manager's approval letter must specifically refer to this AD.

(q) New Pre-Structural Modification Inspections and Structural Modification

Before the accumulation of 20,800 total flight cycles: Do the applicable actions specified in paragraphs (q)(1) and (q)(2) of this AD.

(1) Perform pre-structural modification inspections by doing the actions required by paragraphs (j), (n), and (o) of this AD.

(2) Perform a structural modification of the aft pressure bulkhead by removing and replacing all stringer end fittings with new or refurbished fittings at stringers 1 through 14, and 52 through 64, in accordance with the Accomplishment Instructions of Lockheed Service Bulletin 093-53-105, Revision 3, dated May 31, 2013.

(r) New Post-Structural Modification Repetitive Inspections

Within 13,875 flight cycles after performing the actions required by paragraph (q)(2) of this AD: Do the actions specified in paragraphs (j), (n), and (o) of this AD, and repeat thereafter at intervals not to exceed 1,750 flight cycles.

(s) No Reporting Requirement

Although Lockheed Service Bulletin 093-53-105, Revision 3, dated May 31, 2013, referenced in this AD specifies to submit certain information to the manufacturer, this AD does not include that requirement.

(t) Alternative Methods of Compliance (AMOCs)

(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (u) of this AD.

(2) Before using any approved AMOC, notify your appropriate principal inspector, or lacking a principal inspector, the manager of the local flight standards district office/certificate holding district office.

(u) Related Information

For more information about this AD, contact Carl Gray, Aerospace Engineer, Airframe Branch, ACE-117A, FAA, Atlanta Aircraft Certification Office (ACO), 1701 Columbia Avenue, College Park, GA 30337; phone: 404-474-5554; fax: 404-474-5605; email: carl.w.gray@faa.gov.

(v) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on July 14, 2015.

(i) Lockheed Service Bulletin 093-53-105, Revision 3, dated May 31, 2013 (The date of May 15, 2013, on page 1 of Lockheed Service Bulletin 093-53-105, Revision 3, dated May 31, 2013, is incorrect and should be May 31, 2013).

(ii) Reserved.

(4) The following service information was approved for IBR on January 11, 1996 (60 FR 66870, December 27, 1995).

(i) Lockheed L-1011 Service Bulletin 093-53-105, Revision 1, dated November 17, 1995.

(ii) Reserved.

(5) For Lockheed service information identified in this AD, contact Lockheed Martin Corporation/Lockheed Martin Aeronautics Company, L1011 Technical Support Center, Dept. 6A4M, Zone 0579, 86 South Cobb Drive, Marietta, GA 30063-0579; telephone 770-494-5444; fax 770-494-5445; email L1011.support@lmco.com; Internet http://www.lockheedmartin.com/ams/tools/TechPubs.html.

(6) You may view this service information at FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on May 18, 2015.
John P. Piccola, Jr.,
Acting Manager, Transport Airplane Directorate, Aircraft Certification Service.

[FR Doc. 2015-13325 Filed 6-8-15; 8:45 am]

BILLING CODE 4910-13-P